DEPARTMENT OF HOUSING AND URBAN DEVELOPMENT

[Docket No.FR-6287-N-01]

Agenda and Notice of Public Meetings of the Moving to Work Research Advisory Committee

AGENCY: Office of the Assistant Secretary for Public and Indian Housing and Office of the Assistant Secretary for Policy Development and Research, Housing and Urban Development (HUD).

ACTION: Notice of two federal advisory committee meetings.

SUMMARY: This notice sets forth the schedule and proposed agenda for two meetings of the Moving to Work (MTW) Research Advisory Committee (Committee). The Committee meetings will be held via a virtual web-based platform and an option for a call-in number on Thursday, October 14, 2021, and Thursday, October 28, 2021. The meetings are open to the public and are accessible to individuals with disabilities.

DATES: The virtual meetings will be held on October 14, 2021, from 1:00 p.m. to 4:00 p.m. Eastern Daylight Time (EDT) and on October 28, 2021, from 2:00 p.m. to 5:00 p.m. EDT.

FOR FURTHER INFORMATION CONTACT: Eva Fontheim, Office of Public and Indian Housing, Department of Housing and Urban Development, 451 7th Street SW, Room 4126, Washington, DC 20410, telephone (202) 402-3461 (this is not a toll-free number). Persons who have difficulty hearing or speaking may access this number via TTY by calling the Federal Relay Service at (800) 877-8339 (this is a toll-free number) or can email: MTWAdvisoryCommittee@hud.gov.

SUPPLEMENTARY INFORMATION: Notice of this meeting is provided in accordance with the Federal Advisory Committee Act, 5 U.S.C. App. 10(a)(2). The Committee was established on May 2, 2016, to advise HUD on specific policy proposals and methods of research and evaluation related to the expansion of the MTW demonstration to an additional 100 Public Housing Authorities (PHAs). See 81 FR 24630. The Committee met several times since 2016 to discuss areas of policy focus for study within the MTW expansion. Using the advice of the Committee, the one hundred Expansion MTW PHAs will be added in four to five cohorts. To date, 31 PHAs have been selected to participate in the MTW Flexibility for Smaller PHAs Cohort, all consist of high-performing PHAs that administer 1,000 or fewer Housing Choice Vouchers (HCV) and public housing units combined. An additional 10 PHAs have been selected to participate in the Stepped and Tiered Rent Cohort, consisting of PHAs with 1,001 or more public housing and HCV units. In order to ensure adequate sample size in the Stepped and Tiered Rent Cohort, the selected PHAs were required to have 1,000 or more existing non-elderly, non-disabled public housing and/or HCV households. This cohort will study different rent models that may or may not be income-based, to include tiered rents, and/or stepped-up rents. The Landlord Incentives Cohort, application deadline is October 15, 2021, will study landlord incentives in the housing choice voucher program.

HUD is committed to implementing the MTW Expansion in a way that is responsive to the economic realities and current needs of low-income families; therefore, the Work Requirements Cohort has been rescinded. For this reason, HUD is reconvening the Committee to explore alternative policies to study through the MTW Expansion to ensure that there are 100 designated MTW PHAs. The minutes of all previous meetings are available on the HUD website at: https://www.hud.gov/program_offices/public_indian_housing/programs/ph/mtw/expansion/rac.

HUD will convene two virtual meetings to explore which policies to study in future MTW cohorts.

The agenda for the meetings are as follows:

October 14, 2021—1:00 p.m.-4:00 p.m. EDT

I. Welcome and Introductions

II. Update on the MTW Expansion

III. Review of the Agenda

IV. Background and Status Update

a. Revisit Guiding Principles

b. Overall status of the Expansion

c. Small PHA Flexibility Cohort

d. Tiered and Stepped Rent Cohort

e. Landlord Incentives Cohort

f. Other Cohorts Previously Discussed

g. Questions

V. Goal for this Meeting: Discuss potential topics for remaining cohorts

a. Framing

b. Overview of options

i. Asset Building

ii. Sponsor-Based Housing

iii. Project-Based Voucher Flexibilities

iv. MTW Flexibility (small/medium PHAs)

v. Discussion of other big idea program reforms HUD may want to test

vi. Other ideas from Committee

VI. Open Discussion

VII. BREAK

VIII. Continued Open Discussion

IX. Public Input

X. Committee Debrief

XI. Prioritize and Rank

XII. Summary of Discussion

XIII. Discuss Next Steps and Adjourn

October 28, From 2:00-5:00 p.m. EDT

I. Welcome and Introductions

II. Revisit Guiding Principles

III. Review of October 14, 2021 Meeting

IV. Goal for this Meeting—Discuss and provide recommendations for two new cohort studies (including research design and specific policies).

V. Discussion: Policy Topics Selected at October 14, 2021 Meeting

a. Key research questions

b. Considerations for structuring the Cohort

c. Considerations for evaluating the Cohort

V. BREAK

VI. Public Input

VII. Committee Debrief

VIII. Summary of Discussion

IX. Discuss Next Steps and Adjourn

Members of the public will have an opportunity to provide feedback during the calls. The total amount of time for such feedback will be limited to ensure pertinent Committee business is completed. Further, the amount of time allotted to each individual commenter will be limited and will be allocated on a first-come first-served basis by HUD. If the number of commenters exceeds the available time, HUD may ask for the submission of comments via email.

The public is invited to join the October 14th meeting by clicking: https://ems8.intellor.com/login/840677. Follow the prompts to connect audio by computer or telephone. If you are unable to join the web conference, attendees may dial 1-888-251-2949; Access Code: 5190893#.

The public is invited to join the October 28th meeting by clicking https://ems8.intellor.com/login/840685. Follow the prompts to connect audio by computer or telephone. If you are unable to join the web conference, attendees may dial 1-888-251-2949; Access Code: 1252894#.

Persons with hearing impairments may also follow the discussion by first calling the Federal Relay Service (FRS) at 1-800-877-8339 and providing the FRS operator with the Conference Call Toll-Free Number: 1-888-251-2949.

Records and documents discussed during the meetings, as well as other information about the work of this Committee, will be available for public viewing as they become available at: https://www.facadatabase.gov/FACA/FACAPublicPage by clicking on “Agencies/Committees” at the top of the tool bar. These materials will also be available on the MTW Demonstration's expansion web page at: https://www.hud.gov/program_offices/public_indian_housing/programs/ph/mtw/expansion/rac.

Records generated from these meetings may also be inspected and reproduced at the U.S. Department of Housing Development Headquarters in Washington, DC as they are available and when HUD is able to, both before and after the meetings.

Outside of the work of this Committee, information about HUD's broader implementation of the MTW expansion, as well as additional opportunities for public input, can be found on the MTW Demonstration's expansion web page at: https://www.hud.gov/program_offices/public_indian_housing/programs/ph/mtw/expansion.

Dominique Blom,
General Deputy Assistant Secretary for Public and Indian Housing.
Todd Richardson,
General Deputy Assistant Secretary for Policy Development and Research.

[FR Doc. 2021-19765 Filed 9-13-21; 8:45 am]

BILLING CODE 4210-67-P